FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 010776-119.

Title: Asia North America Eastbound Rate Agreement.

Parties:

A.P. Moller-Maersk Sealand

American President Lines, Ltd.

APL Co. Pte Ltd.

Hapag-Lloyd Container Linie GmbH

Kawasaki Kisen Kaisha, Ltd.

Mitsui O.S.K. Lines, Ltd.

Nippon Yusen Kaisha Line

Orient Overseas Container Line Limited

P&O Nedlloyd B.V.

P&O Nedlloyd Limited

Synopsis: The proposed agreement modification extends the current suspension of the conference for an additional six months, through November 1, 2001.

Agreement No.: 200233-009.

Title: Packer Avenue Lease and Operating Agreement.

Parties:

Philadelphia Regional Port Authority

Astro Holdings, Inc.

Synopsis: The proposed amendment extends the agreement through August 31, 2001.

By Order of the Federal Maritime Commission.
Dated: March 9, 2001.
Bryant L. VanBrakle,
Secretary.

[FR Doc. 01-6343 Filed 3-13-01; 8:45 am]

BILLING CODE 6730-01-p